DEPARTMENT OF HEALTH AND HUMAN SERVICES

Centers for Disease Control and Prevention

[60Day-06-0607]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Violent Death Reporting System-Revision-National Center for Injury Prevention and Control (NCIPC), Centers for Disease Control and Prevention (CDC).

Violence is an important public health problem. In the United States, homicide and suicide are the second and third leading causes of death, respectively, in the 1-34 year old age group. Unfortunately, public health agencies do not know much more about the problem than the numbers and the sex, race, and age of the victims—all information obtainable from the standard death certificate. Death certificates, however, carry no information about key factors necessary for prevention such as the victim-suspect relationship or the circumstances of the deaths. This makes it impossible to discern anything but the gross contours of the problem. Furthermore, death certificates are typically not available until 20 months after the completion of a calendar year. Official publications of national violent death rates, e.g., those in the Morbidity and Mortality Weekly Report, rarely use data that are more than two years old. Public health interventions aimed at a moving target last seen two years ago may well miss the mark.

Local and Federal criminal justice agencies such as the Federal Bureau of Investigation (FBI) provide slightly more information about homicides, but they do not routinely collect standardized data about suicides, which are much more common within all age groups than homicides. The FBI's Supplemental Homicide Report System (SHRS) does collect basic information about the victim-suspect relationship and circumstances. But, as with death certificates, SHRS does not link violent deaths that are part of one incident such as homicides-suicides. Because it is a voluntary system, approximately 10-20 percent of police departments nationwide do not participate. The FBI's National Incident Based Reporting System (NIBRS) addresses some of these deficiencies, but covers less of the country than SHRS, includes only homicides, and collects only police information. Also, the Bureau of Justice Statistics Reports do not use data that are more than two years old.

CDC therefore proposes to continue a state-based surveillance system for violent deaths that will provide more detailed and timely information. It taps into the case records held by medical examiners/coroners, police, and crime labs. Data are collected centrally by each state in the system, stripped of identifiers, and then sent to the CDC. Information is collected from these records about the characteristics of the victims and suspects, the circumstances of the deaths, and the weapons involved. States use standardized data elements and software designed by CDC. Ultimately, this information is intended to guide states in designing programs that reduce multiple forms of violence.

Neither victim families nor suspects are contacted to collect information for The National Violent Death Reporting System. Data come from existing records and are collected by state health department staff or their subcontractors. Health departments incur an average of 2.5 hours per death in identifying the deaths from death certificates, contacting the police and medical examiners to get copies of or to view the relevant records, abstracting the records, various data processing tasks, various administrative tasks, etc.

The number of state health departments to be funded may be as high as 22 by 2009. Seventeen states are currently funded. NCIPC hopes to eventually fund all 50 states. Violent deaths include all homicides, suicides, legal interventions, deaths from undetermined causes, and unintentional firearm deaths. There are 50,000 such deaths annually among U.S. residents; thus the average state will experience approximately 1,000 such deaths each year.

Estimate of Annualized Burden Table
Respondents | Number of respondents | Number of responses/respondent | Average burden/response (in hours) | Total burden (in hours)
State Health Departments | 22 | 1,000 | 2.5
55,000
Total |  |  |  | 55,000

Dated: October 28, 2005.
Betsey Dunaway,
Acting Reports Clearance Officer, Centers for Disease Control and Prevention.

[FR Doc. 05-21914 Filed 11-2-05; 8:45 am]

BILLING CODE 4163-18-P